DEPARTMENT OF ENERGY

National Nuclear Security Administration; National Nuclear Security Administration Advisory Committee

AGENCY: National Nuclear Security Administration, Department of Energy.

ACTION: Notice of closed meeting.

SUMMARY: This notice announces a meeting of the National Nuclear Security Administration Advisory Committee (NNSA AC). The Federal Advisory Committee Act, 5 U.S.C. App. 2 10(a)(2) requires that public notice of these meetings be announced in the Federal Register.

DATES: Tuesday, May 14, 2002—1300-1700; Wednesday, May 15 and Thursday, May 16, 2002—0900-1700.

ADDRESSES: Science Applications International Corporation (SAIC), 1710 SAIC Drive (formerly Goodridge Drive), McLean, VA.

FOR FURTHER INFORMATION CONTACT: Betty (BJ) Morris, (202-586-6312) Executive Officer, NNSA AC.

SUPPLEMENTARY INFORMATION: Purpose of the Committee: To provide the Administrator for Nuclear Security with advice and recommendations on matters of technology, policy, and operations that lie within the mission and responsibilities of the National Nuclear Security Administration. Additional information about the Committee, including its charter, members, and charge, is available at: www.nnsa.gov.

Purpose of the Meeting: To discuss national security research, development, and policy programs.

Closed Meeting: In the interest of national security, the meeting will be closed to the public, pursuant to the Federal Advisory Committee Act, 5 U.S.C. App 2 10(d), and the Federal Advisory Committee Management Regulation, 41 CFR 102-3.155, “How are advisory committee meetings closed to the public?”, which incorporate by reference the Government in the Sunshine Act, 5 U.S.C. 552b, which, at §§ 552b (c)(1) and (c)(3) permits closure of meetings where restricted data or other classified matters are discussed.

Minutes: Minutes of the meeting will be recorded and classified accordingly.

Issued at Washington, DC, April 22, 2002.
Rachel M. Samuel,
Deputy Committee Management Officer.

[FR Doc. 02-10162 Filed 4-24-02; 8:45 am]

BILLING CODE 6450-01-P